NATIONAL AERONAUTICS AND SPACE ADMINISTRATION

[Notice: 02-145]

Proposed Collection; Comment Request

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). NASA will utilize the information collected to expedite reporting of Government-owned, contractor-operated vehicles as required by Executive Order 13149.

DATES: All comments should be submitted within 60 calendar days from the date of this publication.

ADDRESSES: All comments should be addressed to Mr. William Gookin, Code JG, National Aeronautics and Space Administration, Washington, DC 20546-0001.

FOR FURTHER INFORMATION CONTACT: Ms. Nancy Kaplan, NASA Reports Officer, (202) 358-1372.

Title: Federal Automotive Statistical Tool (FAST) Collection.

OMB Number: 2700.

Type of review: New collection.

Need and Uses: Data gathered in this report will enable NASA transportation managers to control costs and energy use by contractors operating Government-owned vehicles.

Affected Public: Business or other for-profit.

Number of Respondents: 93.

Responses Per Respondent: 1.

Annual Responses: 93.

Hours Per Request: 15 min/vehicle.

Annual Burden Hours: 425.

Frequency of Report: Annually.

Patricia Dunnington,
Deputy Chief Information Officer, Office of the Administrator.

[FR Doc. 02-30353 Filed 11-29-02; 8:45 am]

BILLING CODE 7510-01-P